DEPARTMENT OF HOMELAND SECURITY

Bureau of Customs and Border Protection

Oral Declarations No Longer Satisfactory as Evidence of Citizenship and Identity

AGENCIES: U.S. Customs and Border Protection, Department of Homeland Security.

ACTION: Notice.

SUMMARY: U.S., Canadian and Bermudian citizens entering the United States at land or sea ports-of-entry must establish their identity and citizenship to the satisfaction of a U.S. Customs and Border Protection (CBP) Officer. Under current CBP procedures, such individuals may provide any proof of identity and citizenship. While most individuals provide documentary evidence of citizenship, such as a passport or birth certificate, individuals may, depending on the circumstances, be admitted on an oral declaration. Accordingly, CBP is amending its field guidance procedures to instruct CBP officers that citizenship ordinarily may not be established using only an oral declaration.

This Notice informs the public that, effective January 31, 2008, all travelers will be expected to present documents proving citizenship, such as a birth certificate, and government-issued documents proving identity, such as a driver's license, when entering the United States through land and sea ports of entry.

DATES: This notice is effective January 31, 2008.

FOR FURTHER INFORMATION CONTACT: Colleen Manaher, WHTI, Office of Field Operations, U.S. Customs and Border Protection, 1300 Pennsylvania Avenue, NW., Room 5.4-D, Washington, DC 20229, telephone number (202) 344-3003.

SUPPLEMENTARY INFORMATION: All travelers entering the United States are inspected by a Customs and Border Protection (CBP) Officer. To enter the United States in conformance with the Immigration and Nationality Act (INA), U.S. citizens, Canadians and Bermudians must satisfy the CBP Officer of their identity and citizenship. See 8 CFR 235.1(b) and 235.1(f)(1).

In accordance with current CBP operational procedures, a CBP Officer may accept documentary evidence of citizenship from U.S. citizens arriving at land or sea ports of entry from within the Western Hemisphere, such as a passport or birth certificate, or may accept an oral declaration if, depending upon the circumstances presented, such a declaration is deemed sufficient to prove citizenship. When assessing an assertion of citizenship, the CBP Officer may ask for additional identification and proof of citizenship until the CBP Officer is satisfied that the traveler seeking entry into the United States is a U.S. citizen.

Similarly, certain nonimmigrant aliens who are citizens of Canada and Bermuda are exempt from presenting a passport when entering the United States as nonimmigrant visitors from countries in the Western Hemisphere at land or sea ports-of-entry. 8 CFR 212.1(a)(1) and (2). Like U.S. citizens, these travelers are required to satisfy the inspecting CBP officer of their identities and citizenship at the time of their applications for admission. 8 CFR 235.1(f)(1). In accordance with current CBP operational procedures, a CBP Officer may accept documentary evidence of citizenship from Canadian and Bermudian citizens arriving from within the Western Hemisphere, such as a passport or birth certificate, or may, depending upon the circumstances presented, accept an oral declaration.

CBP is now amending its field instructions to direct CBP Officers to no longer generally accept oral declarations as sufficient proof of citizenship and, instead, require documents that evidence identity and citizenship from U.S., Canadian, and Bermudian citizens entering the United States at land and sea ports-of-entry.

Upon implementation, these changes in procedure will reduce the potential vulnerability posed by those who might falsely purport to be U.S., Canadian or Bermudian citizens trying to enter the United States by land or sea in reliance upon a mere oral declaration. Beginning on January 31, 2008, a person claiming U.S., Canadian, or Bermudian citizenship must establish that fact to the examining CBP Officer's satisfaction by presenting a citizenship document such as a birth certificate as well as a government-issued photo identification document. CBP retains its authority to request additional documentation when warranted and to make appropriate individual exceptions.

The instruction for CBP Officers to no longer generally accept oral declarations alone as satisfactory evidence of citizenship is a change in DHS and CBP internal operating procedures, and therefore is exempt from notice and comment rulemaking requirements under the Administrative Procedure Act, 5 U.S.C. 553(b).

On June 26, 2007, the Department of Homeland Security (DHS) and Department of State (DOS) published a joint notice of proposed rulemaking to implement the final phase of the Western Hemisphere Travel Initiative (WHTI) and require persons entering the United States from Western Hemisphere countries to present a passport or other travel document as determined by the Secretary of Homeland Security. See 72 FR 35088. In the NPRM, DHS also explained that, separate from WHTI, beginning January 31, 2008, CBP would no longer accept oral declarations alone as proof of citizenship or identity at land and sea border ports-of-entry.

DHS received five comments in response to the NRPM discussion on the change of practice concerning oral declarations. Although, as discussed above, the amendment to CBP procedures does not require notice and comment rulemaking, DHS will address those comments in the WHTI final rule. In summary, those comments were concerned about increased traffic and resulting travel delays at land border ports-of-entry stemming from document requirements. CBP will rely on its operational experience in processing travelers entering the United States by land to ensure that these changes are implemented in a manner that will minimize delays while achieving the security benefit underlying WHTI.

Accordingly, effective January 31, 2008, CBP Officers will no longer generally allow travelers claiming to be U.S., Canadian, or Bermudian citizens to establish citizenship by relying only on an oral declaration. Beginning on that date, all travelers, including those claiming to be U.S., Canadian, or Bermudian citizens arriving by land and sea will generally be expected to present some form of documentation to satisfy the CBP Officer of his or her identity and citizenship. For example, such documentation may include a government-issued photo identification document presented with a citizenship document, such as a birth certificate.

Dated: December 14, 2007.
Jayson P. Ahern,
Acting Commissioner, Customs and Border Protection.

[FR Doc. E7-24691 Filed 12-20-07; 8:45 am]

BILLING CODE 9111-14-P